DEPARTMENT OF AGRICULTURE

Submission for OMB Review; Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by June 29, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Departmental Administration—Office of Safety, Security and Protection

Title: Request for USDA Identification (ID) Badge.

OMB Control Number: 0505-0022.

Summary of Collection: The AD-1197 was initially created to support the HSPD-12 information collection as required for establishing the applicant's identity for PIV credential issuance. The information requested must be provided by Federal employees, contractors and other applicable individuals when applying for a USDA credential (identification card).

This information collection is necessary to comply with the requirements outlined in Homeland Security Presidential Directive (HSPD) 12, and Federal Information Processing Standard (FIPS) 201-3. USDA must implement an identity proofing, registration, and issuance process consistent with the requirements outlined in FIPS 201-3. This information collection form was required as part of USDA's identity proofing and registration process. After 10/27/06, form AD 1197 was eliminated from the HSPD-12 process with the USDA's participation in the GSA USAccess program, however the form continues to be utilized for the information collection and processing of USDA Site Badges (non-PIV). As USDA continues the HSPD-12 program, one estimate of burden has been calculated and one process description has been included.

Need and Use of the Information: Information will be collected using form AD 1197, Request for USDA Identification (ID) Badge, to issue a site badge to grant individuals short term assess to facilities. USDA has chosen to use GSA's USAccess program for HSPD-12 credentialing and identity management. The automated system includes six separate and distinct roles to ensure no one single individual can issue a credential without further validation from another authorized role holder. An automated notification workflow provides streamlined communication between role holder and the applicant, notifying each as to the respective steps in the process. If the information is not collected, Federal and non-Federal employees may not be permitted in some facilities and will not be allowed access to government computer systems.

Description of Respondents: Individuals or households.

Number of Respondents: 3,000.

Frequency of Responses: Reporting: On occasion.

Total Burden Hours: 3,000.

Ruth Brown,
Departmental Information Collection Clearance Officer.

[FR Doc. 2023-11426 Filed 5-26-23; 8:45 am]

BILLING CODE 3412-BA-P